DEPARTMENT OF DEFENSE

Defense Acquisition Regulations System

[OMB Control Number 0704-0332; Docket Number DARS-2016-0024]

Submission for OMB Review; Comment Request

ACTION: Notice.

SUMMARY: The Defense Acquisition Regulations System has submitted to OMB for clearance, the following proposal for collection of information under the provisions of the Paperwork Reduction Act (44 U.S.C. chapter 35).

DATES: Consideration will be given to all comments received by September 28, 2016.

SUPPLEMENTARY INFORMATION:

Title and OMB Number: Defense Federal Acquisition Regulation Supplement (DFARS) Appendix I, DoD Pilot Mentor-Protege Program; OMB Control Number 0704-0332.

Type of Request: Revision.

Number of Respondents: 122.

Responses per Respondent: Approximately 2.

Annual Responses: 240.

Average Burden per Response: Approximately 1 hour.

Annual Burden Hours: 240.

Affected Public: Businesses or other for-profit and not-for profit institutions.

Frequency: On occasion.

Needs and Uses: DoD needs this information to ensure that participants in the Mentor-Protege Program (“the Program”) are fulfilling their obligations under the mentor-protege agreements and that the Government is receiving value for the benefits it provides through the Program. DoD uses the information as source data for reports to Congress required by section 811(d) of the National Defense Authorization Act for Fiscal Year 2000 (Pub. L. 106-65). Participation in the Program is voluntary.

Respondent's Obligation:

a. DFARS Appendix I, section I-112.2(a)-(d), requires mentor firms to report on the progress made under active mentor-protege agreements semiannually for the periods ending March 31 and September 30. The September 30 report must address the entire fiscal year. Reports must include the following:

1. Data on performance under the mentor-protege agreement, including dollars obligated, expenditures, subcontracts awarded to the protege firm, developmental assistance provided, impact and progress of the agreement.

2. A copy of the Individual Subcontracting Report (ISR) or SF 294 and Summary Subcontracting Report (SSR) for each contract where developmental assistance was credited to subcontracting goals.

b. DFARS Appendix I, section I-112.2(e), requires protege firms to submit reports on an annual basis. Reports must include progress made by the protege firm in employment, revenues, and participation in DoD contracts during each fiscal year of the Program participation term and each of the two fiscal years following the expiration of the Program participation term. During the Program participation term, the protege firms may provide this data to the mentor firm for inclusion in the mentor report required by I-112(a)-(d) for the period ending September 30.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Mr. Frederick C. Licari.

Written requests for copies of the information collection proposal should be sent to Mr. Licari at: Publication Collections Program, WHS/ESD Information Management Division, 4800 Mark Center Drive, 2nd Floor, East Tower, Suite 02G09, Alexandria, VA 22350-3100.

Jennifer L. Hawes,
Editor, Defense Acquisition Regulations System.

[FR Doc. 2016-20636 Filed 8-26-16; 8:45 am]

BILLING CODE 5001-06-P